DEPARTMENT OF TRANSPORTATION

Federal Transit Administration

49 CFR Part 661

[Docket No. FTA-2005-23082]

RIN 2132-AA90

Buy America Requirements; End Product Analysis and Waiver Procedures

AGENCY: Federal Transit Administration (FTA), DOT.

ACTION: Final rule; correction.

SUMMARY: The Federal Transit Administration published in the Federal Register of September 20, 2007, a final rule (effective October 22, 2007) which amended the Buy America requirements in 49 CFR part 661. This document replaces text that was discussed in the preamble but omitted from the final rule with regard to final assembly requirements for rolling stock.

DATES: The effective date of this publication is October 22, 2007.

FOR FURTHER INFORMATION CONTACT: Richard Wong, Office of the Chief Counsel, Federal Transit Administration, 1200 New Jersey Avenue, SE., Washington, DC 20590, (202) 366-4011 or Richard.Wong@dot.gov.

SUPPLEMENTARY INFORMATION: An inadvertent error occurred in the drafting of the final rule. In the Second Notice of Proposed Rulemaking (SNPRM) (71 FR 69412, Nov. 30, 2006), FTA proposed a new Appendix D to part 661 to amend the final assembly requirements for rolling stock. In the preamble to the final rule (72 FR 53688, Sept. 20, 2007), FTA announced that it was withdrawing the proposed language in the SNPRM and would instead continue to implement the terms of the March 18, 1997, Dear Colleague letter, with a few minor additions to reflect industry practices that have taken effect after the 1997 Dear Colleague letter was issued. In the process of drafting the final rule, text that was discussed in the preamble was not included in the final rule.

Accordingly, this document will correct that omission by removing the erroneous text in the September 20, 2007, final rule and replacing it with the correct text.

PART 661—BUY AMERICA REQUIREMENTS

In rule FR Doc E7-18355 published on September 20, 2007 (72 FR 53688) make the following corrections:

§ 661.11 [corrected]

1. Beginning on page 53697, in the third column, in Appendix D to § 661.11, paragraphs (a) and (b) are corrected to read as follows:

Appendix D to § 661.11—Minimum Requirements for Final Assembly

(a) Rail Cars: In the case of the manufacture of a new rail car, final assembly would typically include, as a minimum, the following operations: installation and interconnection of propulsion control equipment, propulsion cooling equipment, brake equipment, energy sources for auxiliaries and controls, heating and air conditioning, communications equipment, motors, wheels and axles, suspensions and frames; the inspection and verification of all installation and interconnection work; and the in-plant testing of the stationary product to verify all functions.

(b) Buses: In the case of a new bus, final assembly would typically include, at a minimum, the installation and interconnection of the engine, transmission, axles, including the cooling and braking systems; the installation and interconnection of the heating and air conditioning equipment; the installation of pneumatic and electrical systems, door systems, passenger seats, passenger grab rails, destination signs, wheelchair lifts; and road testing, final inspection, repairs and preparation of the vehicles for delivery.

* * * * *

Issued on September 25, 2007.
James S. Simpson,
Administrator.

[FR Doc. 07-4803 Filed 9-25-07; 3:19 pm]

BILLING CODE 4910-57-P